Commodity Futures Trading Commission

Sunshine Act Meetings

Time and Date: 11 a.m., Friday, February 29, 2008.

Place: 1155 21st St., NW., Washington, DC, 9th Floor Commission Conference Room.

Status: Closed.

Matters to be Considered: Surveillance Matters.

Contact Person for more Information: Sauntia S. Warfield, 202-418-5084.

David A. Stawick,
Secretary of the Commission.

[FR Doc. 08-196 Filed 1-16-08; 10:06 am]

BILLING CODE 6351-01-P